DEPARTMENT OF HEALTH AND HUMAN SERVICES

Office of the Secretary

Notice of Meeting

Pursuant to section 10(a) of the Federal Advisory Committee Act, as amended (5 U.S.C. appendix 2), notice is hereby given of the inaugural meeting of the Secretary's Advisory Committee on Genetics, Health, and Society (SACGHS). The meeting will also be webcast. (See also Federal Register: May 7, 2003, Volume 68, Number 88, Page 24488.)

The meeting will be held from 9 a.m. to 6 p.m. on June 11, 2003 and 8:30 a.m. to 5 p.m. on June 12, 2003 at the Wyndham Hotel, 1400 M Street, NW., Washington, DC. The meeting will be open to the public with attendance limited to space available.

The first day will be devoted to presentations on and discussion of the status and future directions of genetic technologies, their potential applications, and the issues surrounding their use. The second day will involve deliberations aimed at formulating the SACGHS issues agenda. Time will be provided each day for public comment.

Under authority of 42 U.S.C. 217a, section 222 of the Public Health Service Act, as amended, the Department of Health and Human Services established SACGHS to serve as a public forum for deliberations on the broad range of human health and societal issues raised by the development and use of genetic technologies and, as warranted, to provide advice on these issues.

The draft meeting agenda and other information about SACGHS, including information about access to the webcast, will be available at the following Web site: http://www4.od.nih.gov/oba/sacghs.htm. Individuals who wish to provide public comment or who plan to attend the meeting and need special assistance, such as sign language interpretation or other reasonable accommodations, should notify the SACGHS Executive Secretary, Ms. Sarah Carr, by telephone at 301-496-9838 or E-mail at sc112c@nih.gov. The SACGHS office is located at 6705 Rockledge Drive, Suite 750, Bethesda, MD 20892.

Dated: May 20, 2003.
LaVerne Y. Stringfield,
Director, Office of Federal Advisory Committee Policy.

[FR Doc. 03-13366 Filed 5-28-03; 8:45 am]

BILLING CODE 4140-01-M